DEPARTMENT OF LABOR

Employment and Training Administration

[TA-W-53,551]

Allegheny Ludlum Corporation, Brackenridge Works, Brackenridge, PA

Notice of Termination of Investigation Pursuant to Section 221 of the Trade Act of 1974, as amended, an investigation was initiated on November 17, 2003 in response to a petition filed by a company official on behalf of workers at Allegheny Ludlum Corporation, Brackenridge Works, Brackenridge, Pennsylvania.

The petitioning group of workers is covered by an earlier petition instituted on November 14, 2003 (TA-W-53,538) that is the subject of an ongoing investigation for which a determination has not yet been issued. Further investigation in this case would duplicate efforts and serve no purpose; therefore the investigation under this petition has been terminated.

Signed at Washington, DC this 19th day of November, 2003.
Linda G. Poole,
Certifying Officer, Division of Trade Adjustment Assistance.

[FR Doc. 03-31982 Filed 12-30-03; 8:45 am]

BILLING CODE 4510-30-P